ENVIRONMENTAL PROTECTION AGENCY

[ER-FRL-6641-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 04, 2003 (68 FR 16511).

Draft EISs

ERP No. D-AFS-J65380-UT Rating EC2, Prima East Clear Creek Federal No. 22-42 Gas Exploration Well, Application for Permit to Drill (APD) including a Surface Use Plan of Operations, Approval, Castle Valley Ridge, Ferron/Price Ranger District, Manti-La Sal National Forest, Carbon and Emery Counties, UT.

Summary: EPA expressed environmental concerns with potential direct and indirect adverse environmental impacts from gas development and road construction in an Inventoried Roadless Area. The final EIS should include additional information regarding the management of produced water and impacts to aquatic resources, soils and water quality as well as from OHV use.

ERP No. D-DOE-E09809-SC Rating EC1, Savannah River Site Construction and Operation of a Mixed Oxide (MOX) Fuel Fabrication Facility, NUREG-1767, Aiken, Barnwell and Allendale Counties, SC.

Summary: EPA is pleased with the quality of this draft EIS, especially the mitigation plans. However, EPA is concerned possible impacts from the hazardous and radioactive wastes generated during operation of the proposed facility.

ERP No. D-NPS-K65251-AZ Rating LO, Petrified Forest National Park General Management Plan Revision, Implementation, Navajo and Apache Counties, AZ.

Summary: EPA expressed a lack of objections to the proposed plan, but recommended more detailed information in the Final EIS regarding mitigation measures that will be used to protect water quality from facility improvement activities.

ERP No. DR-DOE-A09824-00 Rating EC2, Hanford Site Solid (Radioactive and Hazardous) Waste Program, New Information on Waste Management Alternatives, Waste Management Practices Enhancement for Low-Level Radioactive Waste, Mixed Low-Level Radioactive Waste and Transuranic Waste, Richland, Benton County, WA.

Summary: EPA is pleased that the revised draft EIS responds to issues we raised in our review of the earlier draft, particularly the analysis of new alternatives. EPA is still concerned, however, that the EIS provides insufficient information to differentiate the environmental effects among alternatives and to ensure compliance with environmental standards. EPA recommends that the final EIS provide additional groundwater analysis and impact information. Also, the final EIS should further describe mitigation measures and their effectiveness in the environmental consequences chapter.

Final EISs

ERP No. F-AFS-J65363-MT Post Fire Vegetation and Fuels Management Project, Fuel Reduction, Bark Beetle Sanitation and Maintenance, and/or Restoration of Vegetative Communities, Beaverhead Deerlodge National Forest, Wisdom and Pintler Ranger Districts, Beaverhead and Deerlodge Counties, MT.

Summary: EPA supports the elimination of proposed riparian harvests, and noted that activities need to be consistent with Montana's development of TMDLs and water quality restoration plans for 303(d) listed waters. EPA also recommended consideration of additional seeding and revegetation on barren hillsides.

Dated: June 24, 2003.
Joseph C. Montgomery,
Director, NEPA Compliance Division, Office of Federal Activities.

[FR Doc. 03-16333 Filed 6-26-03; 8:45 am]

BILLING CODE 6560-50-P